DEPARTMENT OF ENERGY

Federal Energy Regulatory Commission

Combined Notice of Filings #1

Take notice that the Commission received the following electric corporate filings:

Docket Numbers. EC24-11-000.

Applicants: Skysol, LLC.

Description: Supplement to October 23, 2023, Application for Authorization Under Section 203 of the Federal Power Act of Skysol, LLC.

Filed Date: 11/29/23.

Accession Number: 20231129-5149.

Comment Date: 5 p.m. ET 12/11/23.

Take notice that the Commission received the following exempt wholesale generator filings:

Docket Numbers: EG24-46-000.

Applicants: Northern Orchard Solar PV, LLC.

Description: Northern Orchard Solar PV, LLC submits Notice of Self-Certification of Exempt Wholesale Generator Status.

Filed Date: 11/29/23.

Accession Number: 20231129-5190.

Comment Date: 5 p.m. ET 12/20/23.

Take notice that the Commission received the following electric rate filings:

Docket Numbers: ER24-496-000.

Applicants: Pacific Gas and Electric Company.

Description: § 205(d) Rate Filing: Amendment to Extend E&P Agrmt with CA High Speed Rail (RS 247) to be effective 1/30/2024.

Filed Date: 11/30/23.

Accession Number: 20231130-5000.

Comment Date: 5 p.m. ET 12/21/23.

Docket Numbers: ER24-497-000.

Applicants: Navajo Tribal Utility Authority.

Description: Petition for Waiver of Navajo Tribal Utility Authority.

Filed Date: 11/29/23.

Accession Number: 20231129-5191.

Comment Date: 5 p.m. ET 12/6/23.

Docket Numbers: ER24-498-000.

Applicants: MidAmerican Central California Transco, LLC.

Description: § 205(d) Rate Filing: 2023 Annual Update TRBAA Filing to be effective 1/1/2024.

Filed Date: 11/30/23.

Accession Number: 20231130-5051.

Comment Date: 5 p.m. ET 12/21/23.

Docket Numbers: ER24-499-000.

Applicants: NextEra Energy Transmission New York, Inc., Niagara Mohawk Power Corporation, New York Independent System Operator, Inc.

Description: § 205(d) Rate Filing: NextEra Energy Transmission New York, Inc. submits tariff filing per 35.13(a)(2)(iii: Joint 205: EPCA among NYISO, NEET NY, National Grid and Alle Catt Wind (SA2812) to be effective 11/15/2023.

Filed Date: 11/30/23.

Accession Number: 20231130-5061.

Comment Date: 5 p.m. ET 12/21/23.

Docket Numbers: ER24-500-000.

Applicants: PJM Interconnection, L.L.C.

Description: § 205(d) Rate Filing: Amendment to WMPA, Service Agreement No. 5244; Queue No. AD1-085 to be effective 1/30/2024.

Filed Date: 11/30/23.

Accession Number: 20231130-5070.

Comment Date: 5 p.m. ET 12/21/23.

Docket Numbers: ER24-501-000.

Applicants: Southwest Power Pool, Inc.

Description: § 205(d) Rate Filing: Revisions to Att V to address GIP and Initiating an Interconnect Req (RR 580) to be effective 2/1/2024.

Filed Date: 11/30/23.

Accession Number: 20231130-5084.

Comment Date: 5 p.m. ET 12/21/23.

Docket Numbers: ER24-502-000.

Applicants: PJM Interconnection, L.L.C.

Description: § 205(d) Rate Filing: Amendment to ISA, Service Agreement No. 6154; Queue No. AE1-185 to be effective 1/30/2024.

Filed Date: 11/30/23.

Accession Number: 20231130-5088.

Comment Date: 5 p.m. ET 12/21/23.

Docket Numbers: ER24-503-000.

Applicants: Greenleaf Energy Unit 2 LLC.

Description: § 205(d) Rate Filing: 2023-11-30 Request for Authorization of Daily Surcharge Payment to be effective 9/1/2023.

Filed Date: 11/30/23.

Accession Number: 20231130-5095.

Comment Date: 5 p.m. ET 12/21/23.

Docket Numbers: ER24-504-000.

Applicants: Southern California Edison Company.

Description: § 205(d) Rate Filing: Revised Amended-Restated IA, Harbor Cogen (TOT040/SA No. 2) to be effective 12/1/2023.

Filed Date: 11/30/23.

Accession Number: 20231130-5163.

Comment Date: 5 p.m. ET 12/21/23.

Docket Numbers: ER24-505-000.

Applicants: Arizona Public Service Company.

Description: Tariff Amendment: Rate Schedule No. 198—Notice of Cancellation to be effective 2/1/2024.

Filed Date: 11/30/23.

Accession Number: 20231130-5213.

Comment Date: 5 p.m. ET 12/21/23.

Docket Numbers: ER24-506-000.

Applicants: Viridon Mid-Atlantic LLC.

Description: Baseline eTariff Filing: Formula Rate Baseline to be effective 1/30/2024.

Filed Date: 11/30/23.

Accession Number: 20231130-5222.

Comment Date: 5 p.m. ET 12/21/23.

Docket Numbers: ER24-507-000.

Applicants: American Transmission Systems, Incorporated, PJM Interconnection, L.L.C.

Description: § 205(d) Rate Filing: American Transmission Systems, Incorporated submits tariff filing per 35.13(a)(2)(iii: ATSI submits one Construction Agreement, SA No. 6929 to be effective 1/30/2024.

Filed Date: 11/30/23.

Accession Number: 20231130-5227.

Comment Date: 5 p.m. ET 12/21/23.

Docket Numbers: ER24-508-000.

Applicants: NextEra Energy Seabrook, LLC.

Description: § 205(d) Rate Filing: NextEra Energy Seabrook, LLC 2nd Amendment to A&R EP Agreement with NECEC to be effective 11/13/2023.

Filed Date: 11/30/23.

Accession Number: 20231130-5229.

Comment Date: 5 p.m. ET 12/21/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 30, 2023.
Kimberly D. Bose,
Secretary.

[FR Doc. 2023-26764 Filed 12-5-23; 8:45 am]

BILLING CODE 6717-01-P